DEPARTMENT OF THE INTERIOR

Bureau of Reclamation

[DES 07-09]

Navajo-Gallup Water Supply Project

AGENCY: Bureau of Reclamation, Interior.

ACTION: Notice of Availability and Notice of Public Meetings for the Planning Report and Draft Environmental Impact Statement for the Navajo-Gallup Water Supply Project.

SUMMARY: Pursuant to the National Environmental Policy Act (NEPA) of 1969 (as amended) and the general authority to conduct water resources planning under the Reclamation Act of 1902 and all acts amendatory thereof and supplementary thereto, the Bureau of Reclamation (Reclamation) has prepared a Planning Report and Draft Environmental Impact Statement (PR/DEIS). This document was undertaken to provide a discussion for the (1) various ways to provide a municipal and industrial (M&I) water supply to the Navajo Nation; City of Gallup, New Mexico; and Jicarilla Apache Nation; (2) identification of a preferred alternative; and (3) associated environmental impacts and costs of such an endeavor, should it be undertaken.

The PR/DEIS presents alternatives for providing an anticipated year 2040 M&I water supply for the project area. Alternatives considered include diverting and distributing water from the San Juan River using various configurations, water conservation using existing groundwater supplies, and no action.

DATES: A 90-day public review period commences with the publication of this notice. Comments on the PR/DEIS should be submitted no later than June 28, 2007, to Mr. Rege Leach, Bureau of Reclamation, Western Colorado Area Office, 835 East Second Avenue, Suite 300, Durango, Colorado 81301. Comments may also be submitted electronically at navgal@uc.usbr.gov.

Reclamation will conduct five public meetings to obtain public input on the PR/DEIS. All of the meetings will take place from 6 p.m. to 9 p.m. The public meetings schedule is as follows:

• Tuesday, May 22, 2007—University of New Mexico, Calvin Hall Room 248, 200 College Drive, Gallup, New Mexico

• Wednesday, May 23, 2007—Crownpoint Chapter House, Building CO23-001, East Crownpoint Road, Crownpoint, New Mexico

• Thursday, May 24, 2007—St. Michaels Chapter House, St Michaels, Arizona

• Tuesday, June 5, 2007—Shiprock Chapter House, Highway 61, Shiprock, New Mexico

• Wednesday, June 6, 2007—San Juan College, IT Building, Room 7103, 5001 College Blvd., Farmington, New Mexico

ADDRESSES: Copies of the PR/DEIS are available for public inspection and review at the following locations:

• Albuquerque/Bernalillo County Library, 501 Copper Avenue, NW., Albuquerque, New Mexico

• Aztec Public Library, 319 South Ash, Aztec, New Mexico

• Bloomfield City Library, 333 South First Street, Bloomfield, New Mexico

• Cortez Public Library, 202 N. Park, Cortez, Colorado

• Diné College Library, 1228 Yucca Street, Shiprock, New Mexico

• Durango Public Library, 1188 E. 2nd Avenue, Durango, Colorado

• Farmington Public Library, 2101 Farmington Avenue, Farmington, New Mexico

• Fort Lewis College Library, 1000 Rim Drive, Durango, Colorado

• Navajo Nation Library, Window Rock, Arizona

• New Mexico State Library, 1209 Camino Carlos Rey, Santa Fe, New Mexico

• New Mexico State University Library, Las Cruces, New Mexico

• San Juan College Library, 4601 College Boulevard, Farmington, New Mexico

• University of Colorado Libraries, Government Publications, 1720 Pleasant Street, Boulder, Colorado

• Zimmerman Library, Government Information Department, University of New Mexico, Albuquerque, New Mexico

The PR/DEIS is also available electronically at the following internet location: http://www.usbr.gov/uc/rm/navajo/nav-gallup/index.html. Alternatively, a hard copy or CD-ROM version is available upon written request to Mr. Rege Leach, Bureau of Reclamation, Western Colorado Area Office, 835 East Second Avenue, Suite 300, Durango, Colorado 81301.

FOR FURTHER INFORMATION CONTACT: Mr. Rege Leach, Bureau of Reclamation, Western Colorado Area Office, 835 East Second Avenue, Suite 300, Durango, Colorado 81301; telephone 970-385-6500; facsimile 970-385-6539; e-mail: navgal@uc.usbr.gov. If special assistance is required regarding accommodations for attendance at any of the public meetings, please contact Mr. Leach no less than 5 working days prior to the applicable meeting(s).

SUPPLEMENTARY INFORMATION: The proposed project is to provide a long-term supply, treatment, and transmission of M&I water to the Navajo Nation, the Jicarilla Apache Nation, and the City of Gallup, New Mexico. A sustainable water supply is needed for the area to support current and future populations. The proposed project would be designed to serve a future population of approximately 250,000 people by the year 2040. The existing groundwater supplies are dwindling and have limited capacity and poor quality. More than 40 percent of Navajo households rely on water hauling to meet daily water needs. The City of Gallup's groundwater levels have dropped approximately 200 feet over the past 10 years and the supply is not expected to meet current water demands within the decade. The Jicarilla Apache people are currently not able to live and work outside the Town of Dulce, New Mexico, on the reservation because of a lack of water supply.

The cost analysis contained in this PR/DEIS is based on an appraisal level of analysis. As part of Reclamation's efforts to attain greater transparency and accountability with regards to its engineering analyses, the cost estimate is being repriced. This means that instead of updating the 2005 cost estimates using engineering cost indices, the components of the project will be individually repriced in order to gain greater confidence in the estimate. Once the repricing is completed, which we anticipate to occur during the 90-day public comment period, Reclamation will update the PR/DEIS through an addendum or potentially the use of errata sheets.

Reclamation historically supports projects for construction after a feasibility report is completed which includes a feasibility level cost estimate. This appraisal level cost estimate does not meet that requirement. Additional analysis, detail, and updating of the appraisal level cost estimate presented in this draft report are needed before project construction authorization can be supported. Failure to complete this additional effort may result in reliance on a cost estimate for the project which is not sufficient to characterize the expected project cost. The appraisal level design must be upgraded to feasibility level before Reclamation would begin construction. The cost of, and time for completing this additional work, would be substantial.

Reclamation has developed this PR/DEIS pursuant to Public Law 92-199 and the general authority to conduct water resources planning under the Reclamation Act of 1902 and all acts amendatory thereof and supplementary thereto. This document was undertaken to provide a discussion for the (1) various ways to provide an M&I water supply to the Navajo Nation; City of Gallup, New Mexico; and Jicarilla Apache Nation; (2) identification of a preferred alternative; and (3) associated environmental impacts and costs of such an endeavor, should it be undertaken. Reclamation, however, does not have the current substantive or budgetary authorization that is required to construct, operate, and maintain any proposed facilities discussed in this PR/DEIS, and it will take an act of Congress to provide such authority. In addition, Reclamation takes no position on whether such a project should be authorized. The indication of a preferred alternative is solely to meet the requirements of NEPA and is not an indication that a particular alternative should be pursued since, as noted earlier, there is no project authorization that would allow Reclamation to commence this project.

Finally, we are aware that the Navajo Nation and the State of New Mexico have reached an agreement concerning the settlement of the Navajo's water rights in the San Juan River Basin in New Mexico and that a part of the settlement is the construction, operation, and maintenance of the Navajo-Gallup Water Supply Project. We wish to be clear that neither Reclamation, the Department of the Interior, or the Administration have taken a position on the Navajo-San Juan Settlement executed between the Navajo Nation and the State of New Mexico and that nothing herein is any indication of any position regarding the overall settlement.

Public Disclosure

It is our practice to make comments, including names, home addresses, home telephone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Dated: March 22, 2007.
Rick L. Gold,
Regional Director—Bureau of Reclamation, Upper Colorado Region.

[FR Doc. E7-5776 Filed 3-29-07; 8:45 am]

BILLING CODE 4310-MN-P